COMMITTEE FOR PURCHASE FROM PEOPLE WHO ARE BLIND OR SEVERELY DISABLED

Procurement List; Deletion

AGENCY: Committee for Purchase From People Who Are Blind or Severely Disabled.

ACTION: Deletion from the Procurement List.

SUMMARY: This action deletes a service from the Procurement List that was furnished by nonprofit agencies employing persons who are blind or have other severe disabilities.

DATES: Effective Date: 7/27/2015.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION:

Deletion

On 6/12/2015 (80 FR 33485-33489), the Committee for Purchase From People Who Are Blind or Severely Disabled published notice of proposed deletion from the Procurement List.

After consideration of the relevant matter presented, the Committee has determined that the service listed below is no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing a small entity to provide the service to the Government.

3. There are no known regulatory alternatives which would accomplish the objectives of the Javits-Wagner-O'Day Act (41 U.S.C. 8501-8506) in connection with the service deleted from the Procurement List.

End of Certification

Accordingly, the following service is deleted from the Procurement List:

Service

Service Type: Janitorial/Custodial & Grounds Maintenance Service

Service Purchase For: Naval & Marine Corps Reserve Center, 261 Industrial Park Drive, Ebensburg, PA

Mandatory Source of Supply: Unknown

Contracting Activity: Dept of the Navy, Naval Facilities Engineering CMD MID LANT, Norfolk, VA

Barry S. Lineback,
Director, Business Operations.

[FR Doc. 2015-15703 Filed 6-25-15; 8:45 am]

BILLING CODE 6353-01-P